DEPARTMENT OF ENERGY

Federal Energy Regulatory Commission

Combined Notice of Filings #1

Take notice that the Commission received the following electric rate filings:

Docket Numbers: ER15-1429-005.

Applicants: Emera Maine.

Description: Compliance filing: Refund Report—ER12-1650 & ER15-1429 to be effective N/A.

Filed Date: 2/9/17.

Accession Number: 20170209-5010.

Comments Due: 5 p.m. ET 3/2/17.

Docket Numbers: ER17-947-000.

Applicants: PJM Interconnection, L.L.C.

Description: § 205(d) Rate Filing: Amendment to ISA No. 690, Queue No. D07 to be effective 4/2/2002.

Filed Date: 2/8/17.

Accession Number: 20170208-5033.

Comments Due: 5 p.m. ET 3/1/17.

Docket Numbers: ER17-948-000.

Applicants: PJM Interconnection, L.L.C.

Description: § 205(d) Rate Filing: Original Service Agreement No. 4615; Queue No. AB1-138 to be effective 1/9/2017.

Filed Date: 2/8/17.

Accession Number: 20170208-5037.

Comments Due: 5 p.m. ET 3/1/17.

Docket Numbers: ER17-949-000.

Applicants: California Independent System Operator Corporation.

Description: § 205(d) Rate Filing: 2017-02-08 Metering Rules Enhancements Amendment to be effective 4/10/2017.

Filed Date: 2/8/17.

Accession Number: 20170208-5038.

Comments Due: 5 p.m. ET 3/1/17.

Docket Numbers: ER17-950-000.

Applicants: PJM Interconnection, L.L.C.

Description: § 205(d) Rate Filing: Revisions to OATT Schedule 12—Appdx and Appdx A re: ConEd Wheeling Termination to be effective 5/1/2017.

Filed Date: 2/8/17.

Accession Number: 20170208-5040.

Comments Due: 5 p.m. ET 3/1/17.

Docket Numbers: ER17-951-000.

Applicants: Florida Power & Light Company.

Description: § 205(d) Rate Filing: FPL and JEA Agreement for Preliminary Engineering Design, et al., for Oneil-Nass to be effective 2/9/2017.

Filed Date: 2/9/17.

Accession Number: 20170209-5000.

Comments Due: 5 p.m. ET 3/2/17.

Docket Numbers: ER17-952-000.

Applicants: Delmarva Power & Light Company.

Description: § 205(d) Rate Filing: Construction Agreement with DMEC to be effective 2/9/2017.

Filed Date: 2/9/17.

Accession Number: 20170209-5001.

Comments Due: 5 p.m. ET 3/2/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 9, 2017.
Nathaniel J. Davis, Sr.,
Deputy Secretary.

[FR Doc. 2017-03003 Filed 2-14-17; 8:45 am]

BILLING CODE 6717-01-P